DEPARTMENT OF VETERANS AFFAIRS

Funding Opportunity: Staff Sergeant Parker Gordon Fox Suicide Prevention Grant Program

AGENCY: Department of Veterans Affairs.

ACTION: Notice of funding opportunity.

SUMMARY: The Department of Veterans Affairs (VA) is announcing the opportunity of funds for suicide prevention services grants under the Staff Sergeant Parker Gordon Fox Suicide Prevention Grant Program (SSG Fox SPGP). The SSG Fox SPGP enables the Office of Mental Health and Suicide Prevention (OMHSP) within the Veterans Health Administration (VHA) to provide financial assistance through a 3-year community-based grant program to eligible entities to provide, or coordinate the provision of, suicide prevention services to eligible Veterans and their families. Funding offered under this Notice of Funding Opportunity (NOFO) responds to the mounting need to reach Veterans at risk for suicide in their communities. This Notice contains information concerning the SSG Fox SPGP, the application process and the amount of funding available. Awards made for suicide prevention services grants will fund operations beginning on or around September 1, 2022.

DATES: Applications for suicide prevention services grants under the SSG Fox SPGP Program must be received by 11:59 p.m. Eastern Time on June 10, 2022. In the interest of fairness to all competing applicants, this deadline is firm as to date and hour, and VA will treat as ineligible for consideration any application that is received after the deadline. Applicants should take this practice into account and make early submission of their materials to avoid any risk of loss of eligibility brought about by unanticipated delays, computer service outages, or other submission-related problems.

ADDRESSES: For a Copy of the Application Package: Copies of the application can be downloaded from the SSG Fox SPGP website at https://www.mentalhealth.va.gov/ssgfox-grants/. Questions should be referred to the SSG Fox SPGP at VASSGFoxGrants@va.gov. For detailed SSG Fox SPGP information and requirements, see part 78 of title 38 CFR part 78).

Application Submission: Applicants must submit applications electronically following instructions found at https://www.mentalhealth.va.gov/ssgfox-grants/. Applications may not be mailed or sent by facsimile (fax). Applications must be received by the SSG Fox SPGP Office no later than 11:59 p.m. Eastern Time on the application deadline date. Applications must arrive as a complete package. Materials arriving separately will not be included in the application package and may result in the application being rejected.

Technical Assistance: Information on obtaining technical assistance preparing a suicide prevention services grant application is available on the SSG Fox SPGP website at https://www.mentalhealth.va.gov/ssgfox-grants.

FOR FURTHER INFORMATION CONTACT: Ms. Sandra Foley, Director SSG Fox SPGP, Office of Mental Health and Suicide Prevention, 11MHSP, 202-502-0002 (this is not a toll-free telephone number), or VASSGFoxGrants@va.gov.

SUPPLEMENTARY INFORMATION: Funding Opportunity Title: SSG Fox Suicide Prevention Grant Program.

Announcement Type: Initial.

Funding Opportunity Number: VA-FOX-SP-FY2022.

Assistance Instrument: Grant.

Assistance Listing: 64.055, VA Suicide Prevention Program.

I. Funding Opportunity Description

A. Purpose

Section 201 of the Commander John Scott Hannon Veterans Mental Health Care Improvement Act of 2019 (the Act), Public Law 116-171 (38 U.S.C. 1720F, note), enacted on October 17, 2020, created SSG Fox SPGP, a new community-based suicide prevention services grant program with the purpose of reducing Veteran suicide. The SSG Fox SPGP aims to build upon VA's public health approach, which combines clinical and community-based interventions to prevent Veteran suicide for those inside and outside of VA health care.

The SSG Fox SPGP is intended to provide grants to certain entities that will provide or coordinate the provision of suicide prevention services to eligible individuals and their families for the purpose of reducing Veteran suicide. This grant program will assist in further implementing a public health approach through these community efforts. The goal of these grants is to reduce Veteran suicide risk; improve baseline mental health status, well-being and social support; and improve financial stability for eligible individuals and their families.

B. Background

VA's top clinical priority is preventing suicide among all Veterans—including those who do not, and may never, seek care within the VA health care system. Guided by VA's National Strategy for Preventing Veteran Suicide (2018), OMHSP is implementing Suicide Prevention (SP) 2.0. SP 2.0 outlines a comprehensive public health approach to suicide prevention that blends community-based prevention and clinically based interventions. SP 2.0 expands VA's clinical suicide prevention efforts and establishes VA's Community-Based Interventions for Suicide Prevention initiative (CBI-SP).

SP 2.0 clinical efforts build upon VA's foundational approach, which includes over 500 suicide prevention coordinators to provide enhanced care to Veterans at highest risk, local follow up to Veterans Crisis Line referrals, training, staff consultation and outreach in communities. VA has implemented universal suicide risk screening at every level of care, expanded safety planning efforts and increased access to evidence-based psychotherapies for suicide prevention.

On the community side, CBI-SP includes expansion of the Governor's Challenge to Prevent Suicide Among Service members, Veterans and their families; VA's Community Engagement and Partnership Coordinator program; and the Together With Veterans model. Across all three approaches to CBI-SP, there are three overarching focused priority areas: (1) Identifying Service members, Veterans and their families and screening them for suicide risk; (2) promoting connectedness and improving care transitions; and (3) increasing lethal means safety and safety planning. The SSG Fox SPGP builds upon these initiatives to enhance connections to direct services for eligible individuals and their families.

C. Definitions

The regulations for the SSG Fox SPGP, published in the Federal Register (see 87 FR 13806, as amended by 87 FR 16101) as an Interim Final Rule on March 10, 2022, and amended on March 22, 2022, and codified in 38 CFR part 78, contain all detailed definitions and requirements pertaining to this program. Definitions of key terms are also provided below for ease of reference. However, 38 CFR part 78 should be consulted for all definitions.

Eligible Entity: Eligible entity means an entity that meets the definition of an eligible entity in section 201(q) of the Act. Under section 201(q)(3) of the Act, an eligible entity must be one of the following: (1) An incorporated private institution or foundation that (i) has no part of the net earnings of which incurs to the benefit of any member, founder, contributor, or individual, and (ii) has a governing board that would be responsible for the operation of the suicide prevention services provided under this section; (2) a corporation wholly owned and controlled by an organization meeting the requirements of clauses (i) and (ii) above; (3) an Indian tribe; (4) a community-based organization that can effectively network with local civic organizations, regional health systems and other settings where eligible individuals and their families are likely to have contact; or (5) a state or local government. This may include, but not be limited to, nonprofit and private organizations such as those that are part of VA-Substance Abuse and Mental Health Services Administration's Governors' and Mayors' Challenge to prevent suicide among Service members, Veterans and their families; universities; and city, county, state and tribal governments. Demonstration of eligibility as detailed in the application includes submission of documents as outlined in Section IV of this notice.

Eligible Individual: Eligible individual means an individual that meets the requirements of 38 CFR 78.10(a). This means that to be eligible to receive suicide prevention services under the SSG Fox SPGP, an individual must be at risk of suicide and meet the definition of eligible individual in section 201(q) of the Act. That is, the individual must be one of the following: (1) A Veteran as defined in 38 U.S.C. 101, (2) an individual described in 38 U.S.C. 1720I(b), or (3) an individual described in 38 U.S.C. 1712A(a)(1)(C)(i) through (iv). This is consistent with the definition of eligible individual in section 201(q)(4) of the Act. For purposes of eligible individuals, and consistent with section 201(q)(8) of the Act, risk of suicide means exposure to, or the existence of, any of the following factors, to any degree, that increase the risk of suicidal ideation and/or behaviors: (1) Health risk factors, including mental health challenges, substance use disorder, serious or chronic health conditions or pain and traumatic brain injury; (2) environmental risk factors, including prolonged stress, stressful life events, unemployment, homelessness, recent loss and legal or financial challenges; and (3) historical risk factors, including previous suicide attempts, family history of suicide and history of abuse, neglect, or trauma, including military sexual trauma.

Family: Family means, with respect to an eligible individual, any of the following: A parent, spouse, child, sibling, step-family member, extended family member and any other individual who lives with the eligible individual.

Grantee: Grantee means an eligible entity that is awarded a suicide prevention services grant under 38 CFR part 78 (that is, a grant under the SSG Fox SPGP).

Indian Tribe: Indian tribe means an Indian tribe as defined in 25 U.S.C. 4103. Section 4103(13)(A) of title 25, U.S.C., defines Indian tribe in general to mean a tribe that is a federally or a state recognized tribe. Section 4103(13)(B) of title 25, U.S.C., further defines federally recognized tribe to mean any Indian tribe, band, Nation, or other organized group or community of Indians, including any Alaska Native village or regional or village corporation as defined in or established pursuant to the Alaska Native Claims Settlement Act (43 U.S.C. 1601 et seq.), that is recognized as eligible for the special programs and services provided by the United States to Indians because of their status as Indians pursuant to the Indian Self-Determination and Education Assistance Act (25 U.S.C. 450 et seq.). Section 4103(13)(C) of title 25, U.S.C., also defines state recognized tribe to mean any tribe, band, Nation, pueblo, village, or community—(1) that has been recognized as an Indian tribe by any state; and (2) for which an Indian Housing Authority has, before the effective date under section 705 of Public Law 104-330 (110 Stat. 4018, 4052), entered into a contract with the Secretary of Housing and Urban Development pursuant to the United States Housing Act of 1937 (42 U.S.C. 1437 et seq.) for housing for Indian families and has received funding pursuant to such contract within the 5-year period ending upon such effective date. This definition also includes certain conditions set forth in 25 U.S.C. 4103(13)(C)(ii). This definition of Indian tribe is consistent with section 201(q)(7) of the Act.

Participant: Participant means an eligible individual or their family who is receiving suicide prevention services for which they are eligible from a grantee.

Suicide Prevention Services: Suicide prevention services include any of the following services provided to address the needs of a participant: (1) Outreach; (2) baseline mental health screening; (3) education; (4) clinical services for emergency treatment; (5) case management services; (6) peer support services; (7) assistance in obtaining VA benefits; (8) assistance in obtaining and coordinating other public benefits and assistance with emergent needs; (9) nontraditional and innovative approaches and treatment practices; and (10) other services. These services are further described in 38 CFR 78.45 through 78.90 and in section I.D of this notice, below.

Veteran: Veteran means a Veteran under 38 U.S.C. 101(2), which defines Veteran as a person who served in the active military, naval, air, or space service, and who was discharged or released therefrom under conditions other than dishonorable.

D. Approach

Suicide prevention services are those services that address the needs of eligible individuals and their families and are necessary for improving the mental health status and well-being and reducing the suicide risk of eligible individuals and their families. Applicants must include in their application how they will provide or coordinate the provision of the baseline mental health screening to all participants. In addition, the application must include the proposed suicide prevention services to be provided or coordinated to be provided and the identified need for those services. Suicide prevention services include:

Outreach to identify and engage eligible individuals (and their families) at highest risk of suicide: Grantees providing or coordinating the provision of outreach must use their best efforts to ensure that eligible individuals, including those who are at highest risk of suicide or who are not receiving health care or other services furnished by VA, and their families are identified, engaged and provided suicide prevention services. Based on the suicide risk and eligibility screening conducted by grantees, eligible individuals that should be considered at highest risk of suicide are those with a recent suicide attempt, an active plan or preparatory behavior for suicide, or a recent hospitalization for suicidality. VA will provide access to the Columbia Suicide Severity Rating Scale to determine level of suicide risk. Outreach must include active liaison with local VA facilities; state, local, or tribal government (if any); and private agencies and organizations providing suicide prevention services to eligible individuals and their families in the area to be served by the grantee. This can include, for example, local mental health and emergency or urgent care departments in local hospitals or clinics. Grantees are required to have a presence in the area to meet with individuals and organizations to create referral processes to the grantee and other community resources. VA requires that grantees coordinate with VA with respect to the provision of health care and other services to eligible individuals. VA expects that grantees will work with local VA facilities on a regular basis to coordinate care when needed for eligible individuals.

Baseline mental health screening: Grantees must provide or coordinate the provision of baseline mental health screenings to all participants they serve at the time those services begin. This baseline mental health screening ensures that the participant's mental health needs can be properly determined and that suicide prevention services can be further tailored to meet the individual's needs. The baseline mental health screening must be provided using validated screening tools that assess suicide risk and mental and behavioral health conditions. VA will provide access to the Patient Health Questionnaire, Generalized Self-Efficacy Scale, Interpersonal Support Evaluation List, Socio Economic Status and the Warwick Edinburgh Mental Well-Being Scale to grantees providing or coordinating the provision of baseline mental health screenings.

If an eligible individual is at risk of suicide or other mental or behavioral health condition pursuant to the baseline mental health screening, the grantee must refer such individual to VA for care. If the eligible individual refuses the grantee's referral to VA, any ongoing clinical services provided to the eligible individual by the grantee is at the expense of the grantee. It is important to note that this is only required for eligible individuals and not the family of eligible individuals.

If a participant other than an eligible individual is at risk of suicide or other mental or behavioral health condition pursuant to the baseline mental health screening, the grantee must refer such participant to appropriate health care services in the area. To the extent that the grantee is able to furnish such appropriate health care services on an ongoing basis and has available funding separate from funds provided under this grant program to do so, they would be able to furnish such services using those non-VA funds without being required to refer such participants to other services. As noted above, any ongoing clinical services provided to the participant by the grantee is at the expense of the grantee.

When such referrals are made by grantees to VA, to the extent practicable, those referrals are required to be a “warm hand-off” to ensure that the eligible individual receives necessary care. This “warm hand-off” may include providing any necessary transportation to the nearest VA facility, assisting the eligible individual with scheduling an appointment with VA and any other similar activities that may be necessary to ensure the eligible individual receives necessary care in a timely manner.

Education: Suicide prevention education programs may be provided and coordinated to be provided to educate communities, Veterans and families on how to identify those at risk of suicide, how and when to make referrals for care and the types of suicide prevention resources available within the area. Education can include gatekeeper training, lethal means safety training, or specific education programs that assist with identification, assessment, or prevention of suicide. Gatekeeper training generally refers to programs that seek to develop individuals' knowledge, attitudes and skills to prevent suicide. Gatekeeper training is an educational course designed to teach clinical and non-clinical professionals or gatekeepers the warning signs of a suicide crisis and how to respond and refer individuals for care. Education is important because learning the signs of suicide risk, how to reduce access to lethal means and to connect those at risk of suicide to care can improve understanding of suicide and has the potential to reduce suicide.

Clinical services for emergency treatment: Clinical services may be provided or coordinated to be provided for emergency treatment of a participant. Emergency treatment means medical services, professional services, ambulance services, ancillary care and medication (including a short course of medication related to and necessary for the treatment of the emergency condition that is provided directly to or prescribed for the patient for use after the emergency condition is stabilized and the patient is discharged) was rendered in a medical emergency of such nature that a prudent layperson would have reasonably expected that delay in seeking immediate medical attention would have been hazardous to life or health. This standard is met by an emergency medical condition manifesting itself by acute symptoms of sufficient severity (including severe pain) that a prudent layperson who possesses an average knowledge of health and medicine could reasonably expect the absence of the immediate medical assistance to result in placing the health of the individual in serious jeopardy, serious impairment to bodily functions, or serious dysfunction of any bodily organ or part. It is important to note that emergency medical conditions include emergency mental health conditions.

If an eligible individual is furnished clinical services for emergency treatment and the grantee determines that the eligible individual requires ongoing services, the grantee must refer the eligible individual to VA for additional care. If the eligible individual refuses the grantee's referral to VA, any ongoing clinical services provided to the eligible individual by the grantee is at the expense of the grantee.

If a participant other than an eligible individual is furnished clinical services for emergency treatment and the grantee determines that the participant requires ongoing services, the grantee must refer the participant to appropriate health care services in the area for additional care. Except in instances in which a participant other than an eligible individual is furnished clinical services for emergency treatment, funds provided under this grant program may not be used to provide ongoing clinical services to such participants and any ongoing clinical services provided to the participant by the grantee is at the expense of the grantee.

Case management services: Case management services are focused on suicide prevention to effectively assist participants at risk of suicide. Grantees providing or coordinating the provision of case management services must provide or coordinate the provision of such services that include, at a minimum: (a) Performing a careful assessment of participants, and developing and monitoring case plans in coordination with a formal assessment of suicide prevention services needed, including necessary follow-up activities, to ensure that the participant's needs are adequately addressed; (b) establishing linkages with appropriate agencies and service providers in the area to help participants obtain needed suicide prevention services; (c) providing referrals to participants and related activities (such as scheduling appointments for participants) to help participants obtain needed suicide prevention services, such as medical, social and educational assistance or other suicide prevention services to address participants' identified needs and goals; (d) deciding how resources and services are allocated to participants on the basis of need; (e) educating participants on issues, including, but not limited to, suicide prevention services availability and participant rights; and, (f) other activities, as approved by VA, to serve the comprehensive needs of participants for the purpose of reducing suicide risk.

Peer support services: The provision or coordination of the provision of peer support services by the grantee must be to help participants understand what resources and supports are available in their area for suicide prevention. Peer support services must be provided by Veterans trained in peer support with similar lived experiences related to suicide or mental health. Peer support specialists serve as role models and a resource to assist participants with their mental health recovery. Peer support specialists function as interdisciplinary team members, assisting physicians and other professional and non-professional personnel in a rehabilitation treatment program. Each grantee providing or coordinating the provision of peer support services must ensure that Veterans providing such services to participants meet the requirements of 38 U.S.C. 7402(b)(13) and meet qualification standards for appointment; or have completed peer support training, are pursuing credentials to meet the minimum qualification standards for appointment and are under the supervision of an individual who meets the necessary requirements of 38 U.S.C. 7402(b)(13). Qualification standards include that the individual is (1) a Veteran who has recovered or is recovering from a mental health condition, and (2) certified by (i) a not-for-profit entity engaged in peer support specialist training as having met such criteria as the Secretary shall establish for a peer support specialist position, or (ii) a state as having satisfied relevant state requirements for a peer support specialist position. VA has further set forth qualifications for its peer support specialists in VA Handbook 5005, Staffing (last updated July 17, 2012). See VA Handbook/Directive 5005. Grant funds may be used to provide education and training for employees of the grantee or the community partner who provide peer support services based on the terms set forth in the grant agreement.

Assistance in obtaining VA benefits: The provision of this assistance will provide grantees with additional means by which VA can notify participants of available VA benefits. Grantees assisting participants in obtaining VA benefits are required to aid participants in obtaining any benefits from VA for which the participants are eligible. Such benefits include but are not limited to: (1) Vocational and rehabilitation counseling; (2) supportive services for homeless Veterans; (3) employment and training services; (4) educational assistance; and (5) health care services. Grantees are not permitted to represent participants before VA with respect to a claim for VA benefits unless they are recognized for that purpose pursuant to 38 U.S.C. 5902. Employees and members of grantees are not permitted to provide such representation unless the individual providing representation is accredited pursuant to 38 U.S.C. chapter 59.

Assistance in obtaining and coordinating other public benefits and assistance with emergent needs: Grantees assisting participants in obtaining and coordinating other public benefits or assisting with emergency needs are required to assist participants in obtaining and coordinating the provision of benefits that are being provided by Federal, state, local, or tribal agencies, or any other grantee in the area served by the grantee by referring the participant to and coordinating with such entity. If a public benefit is not being provided by Federal, state, local, or tribal agencies, or any other grantee in the area, the grantee is not required to obtain, coordinate, or provide such public benefit. Public benefits and assistance that a participant may be referred to include: Health care services, which include (1) health insurance and (2) referrals to a governmental entity or grantee that provides (i) hospital care, nursing home care, outpatient care, mental health care, preventive care, habilitative and rehabilitative care, case management, respite care and home care, (ii) the training of any eligible individual's family in the care of any eligible individual and (iii) the provision of pharmaceuticals, supplies, equipment, devices, appliances and assistive technology. Grantees may also refer participants, as appropriate, to an entity that provides daily living services relating to the functions or tasks for self-care usually performed in the normal course of a day. Grantees may refer or provide directly personal financial planning services; transportation services; temporary income support services (including, among other services, food assistance and housing assistance); fiduciary and representative payee services; legal services to assist eligible individuals with issues that may contribute to the risk of suicide; and the provision of childcare. For additional details on these elements, applicants should consult 38 CFR 78.80.

Nontraditional and innovative approaches and treatment practices: Grantees may provide or coordinate the provision of nontraditional and innovative approaches and treatment, including but not limited to complementary or alternative interventions with some evidence for effectiveness of improving mental health or mitigating a risk factor for suicidal thoughts and behavior. Applicants may propose nontraditional and innovative approaches and treatment practices in their suicide prevention services grant applications. VA is exercising its authority by reserving the right to approve or disapprove nontraditional and innovative approaches and treatment practices to be provided or coordinated to be provided using funds authorized under SSG Fox SPGP.

Other services: Grantees may provide general suicide prevention assistance, which may include payment directly to a third party (and not to a participant), in an amount not to exceed $750 per participant during any 1-year period, beginning on the date that the grantee first submits a payment to a third party. Expenses that may be paid include expenses associated with gaining or keeping employment, such as uniforms, tools, certificates and licenses, as well as expenses associated with lethal means safety and secure storage, such as gun locks and locked medication storage.

Applicants may propose additional suicide prevention services to be provided or coordinated to be provided. Examples of other services may include but are not limited to adaptive sports; equine assisted therapy; in-place or outdoor recreational therapy; substance use reduction programming; individual, group, or family counseling; and relationship coaching. VA reserves the right to approve or disapprove other suicide prevention services to be provided or coordinated to be provided using funds authorized under SSG Fox SPGP.

E. Authority

Funding applied for under this Notice is authorized by section 201 of the Act. VA established and implemented this statutory authority for the SSG Fox SPGP in 38 CFR part 78. Funds made available under this Notice are subject to the requirements of § 201 of the Act, 38 CFR part 78, and other applicable laws and regulations.

F. Guidance for the Use of Suicide Prevention Services Funds

Consistent with § 201(o) of the Act, only grantees that are a state or local government or an Indian tribe can use grant funds to enter into an agreement with a community partner under which the grantee may provide funds to the community partner for the provision of suicide prevention services to eligible individuals and their families. However, grantees may choose to enter into contracts for goods or services because in some situations, resources may be more readily available at a lower cost, or they may only be available, from another party in the community.

Grantees may make payments directly to a third party on behalf of a participant for childcare, transportation and general suicide prevention assistance.

Funds can be used to conduct outreach, educate and connect with eligible individuals who are not engaged with VA services. Any outreach and education that is funded by SSG Fox SPGP should link directly back to a referral to the grantee's program for an opportunity to enroll the eligible individual in the program.

Funds must be used to screen for eligibility and suicide risk and enroll individuals in the program accordingly. Note that some individuals who come through the referral process may not engage in services. Grantees are expected to determine what referrals are appropriate for these individuals for follow-up services. Funds must be used to coordinate and provide suicide prevention services, by the grantee, based on screening and assessment, including clinical services for emergency treatment.

Funds must also be used to evaluate outcomes and effectiveness related to suicide prevention services. Prior to providing suicide prevention services, grantees must verify, document and classify each participant's eligibility for suicide prevention services. Grantees must determine and document each participant's degree of risk of suicide using tools identified in the suicide prevention services grant agreement. Prior to services ending, grantees must provide or coordinate the provision of a mental health screening to all participants they serve, when possible. This screening must be conducted with the same tools used to conduct the initial baseline mental health screening. Having this screening occur at the beginning and prior to services ending is important in evaluating the effectiveness of the services provided.

Grantees must document the suicide prevention services provided or coordinated, how such services are provided or coordinated, the duration of the services provided or coordinated and any goals for the provision or coordination of such services. If the eligible individual wishes to enroll in VA health care, the grantee must inform the eligible individual of a VA point of contact for assistance in enrollment.

For each participant, grantees must develop and document an individualized plan with respect to the provision of suicide prevention services provided. This plan must be developed in consultation with the participant.

As outlined in 38 CFR 78.105, activities for which grantees will not be authorized to use suicide prevention services grant funds include direct cash assistance to participants, those legal services prohibited pursuant to § 78.80(g), medical or dental care and medicines except for clinical services for emergency treatment authorized pursuant to § 78.60, any activities considered illegal under Federal law and any costs identified as unallowable per 2 CFR part 200, subpart E.

II. Award Information

A. Allocation of Funds

Approximately $51,750,000 is available for suicide prevention grants to be funded under this Notice. The maximum allowable grant size is $750,000 per year per grantee.

B. Award Period

Grants awarded will be for a minimum of a 1-year period, not to exceed 13 months. In accordance with 38 CFR 78.15(b), subject to the availability of VA funds, VA may issue a future NOFO which would permit grantees to apply for the renewal of a suicide prevention services grant in accordance with the terms and conditions of such NOFO.

III. Eligibility Information

A. Eligible Applicants

See Section I. Funding Opportunity Description, Section C. Definitions of this NOFO for a detailed description of eligible applicants.

B. Cost Sharing/Matching

There is no cost sharing/matching for this grant program.

C. Unique Entity Identifier

Applicants must be registered in the System for Award Management (sam.gov) and provide a unique entity identifier and continue to maintain an active SAM registration with current information as per 2 CFR part 200 (Appendix 1).

IV. Application and Scoring Information

A. Content and Form of Application

Applicants must include all required documents in their application submission. Submission of an incorrect, incomplete, inconsistent, unclear, or incorrectly formatted application package will result in the application being rejected. The application is organized into the following sections:

Section A: Background, Qualifications, Experience & Past Performance of Applicant and Any Identified Community Partners (30 Maximum Points)

VA will award points based on the background, qualifications, experience and past performance of the applicant and any community partners identified by the applicant in the suicide prevention services grant application. VA will consider whether the applicant's, and any identified community partners', background and organizational history are relevant to the program; whether the applicant, and any identified community partners, maintain organizational structures with clear lines of reporting and defined responsibilities; and whether the applicant, and any identified community partners, have a history of complying with agreements and not defaulting on financial obligations.

Staff qualifications includes determining whether the applicant's staff, and any identified community partners' staff, have experience providing services to, or coordinating services for, eligible individuals and their families as well as experience administering programs similar to SSG Fox SPGP.

Organizational qualifications and past performance, including experience with Veteran services, will be considered. VA will score this criterion based on whether the applicant, and any identified community partners, have organizational experience: (i) Providing suicide prevention services to, or coordinating suicide prevention services for, eligible individuals and their families; (ii) coordinating such services for eligible individuals and their families among multiple organizations and Federal, state, local, and tribal governmental entities; (iii) administering a program similar in type and scale to SSG Fox SPGP to eligible individuals and their families; and (iv) working with Veterans and their families.

Section B: Program Concept & Suicide Prevention Services Plan (30 Maximum Points)

VA will award points based on the applicant's program, concept and suicide prevention services plan, as demonstrated by the need for the program; outreach and screening plan; program concept; program implementation timeline; coordination with VA; ability to meet VA's requirements, goals and objectives for SSG Fox SPGP; and capacity to undertake the program.

The need for the program will be scored based on whether the applicant has shown a need amongst eligible individuals and their families in the area where the program will be based and whether the applicant demonstrates an understanding of the unique needs for suicide prevention services of eligible individuals and their families.

The outreach and screening plan will be scored based on whether the applicant has a feasible plan for outreach and referral to identify and assist individuals and their families that may be eligible for suicide prevention services and are most in need of suicide prevention services, a feasible plan to process and receive participant referrals and a feasible plan to assess and accommodate the needs of incoming participants.

Program concept will be scored based on whether the applicant's program concept, size, scope and staffing plan are feasible, as well as whether the applicant's program is designed to meet the needs of eligible individuals and their families.

As part of the program concept, VA will score applications based on how clearly the applicant identifies the suicide prevention services the applicant intends to provide or coordinate to provide and demonstrates how the services will be implemented. Suicide prevention services include: Outreach; baseline mental health screening; education; clinical services for emergency treatment; case management; peer support; assistance in obtaining VA benefits; assistance in obtaining and coordinating other public benefits and assistance with emergent needs; nontraditional and innovative approaches; and other services. These are further defined in VA's regulations at 38 CFR 78.45 through 78.90.

As part of program concept, for those applicants proposing nontraditional and innovative approaches, VA will consider whether the applicants effectively demonstrated: (1) A clear description of the program and services the participant is intended to receive; (2) the goal of the intended services; and (3) an effective methodology to measure the proposed outcomes and evaluate the effectiveness of the services provided. VA will consider any submitted proposed evaluation methodology if the grantee is already providing the services. If the grantee is already providing such services, any existing data included in the application that demonstrates the effectiveness of services as they relate to the overall SSG Fox SPGP program objectives to reduce Veteran suicide risk, improve baseline mental health status, well-being and social support, and financial stability for eligible individuals and their families will be considered. Existing data may include outcomes, participant exit interviews, participant self-reports and participant satisfaction surveys.

For those applicants proposing other suicide prevention services, VA will consider whether those have demonstrated evidence-informed interventions for improving the mental health status and well-being and reducing the suicide risk of eligible individuals and their families, and whether they have effectively demonstrated a clear description of the program and services the participant is intended to receive and the goal of the intended services. VA will consider whether any provided data shows the effectiveness of the services, as it relates to the overall SSG Fox SPGP objectives to reduce Veteran suicide risk, improve baseline mental health status, well-being and social support, and financial stability for eligible individuals and their families. VA will also review and determine approval in relation to evidence provided for significant improvements in pilot data utilizing validated instruments that demonstrate a reduction in indicators of suicide risk. This aligns with recommendations from National Institutes of Health. Further examples of other services with listed evidence may be found in the VA/DoD Clinical Practice Guidelines for Suicide Prevention. It is also important for VA to note that any approaches and treatment practices approved will need to be consistent with applicable Federal law. For example, the use of grant funds to provide or coordinate the provision of marijuana to eligible individuals and their families will be prohibited, as marijuana is currently illegal under Federal law.

VA will score the program implementation timeline based on whether the applicant's program will be implemented in a timely manner and suicide prevention services will be delivered to participants as quickly as possible and within a specified timeline. VA will also score this based on whether there is a feasible staffing plan in place to meet the applicant's program timeline or that the applicant has existing staff to meet such timeline.

VA will score applications based on whether the applicant has a feasible plan to coordinate outreach and services with local VA facilities and VA Suicide Prevention Coordinators.

VA will score the applicant's demonstrated ability and commitment to meet VA's requirements, goals and objectives for SSG Fox SPGP, which will be based on whether the applicant demonstrates commitment to ensuring that its program meets VA's requirements, goals, and objectives for SSG Fox SPGP, which are to reduce Veteran suicide through community-based grants to provide or coordinate the provision of suicide prevention services to eligible individuals and their families, to improve mental health status, well-being and reduce the risk of eligible individuals and their families.

VA will score the applicant's capacity, including staff resources, to undertake its program.

Section C: Quality Assurance & Evaluation Plan (15 Maximum Points)

VA will award points based on the applicant's quality assurance and evaluation plan, as demonstrated by program evaluation, monitoring, remediation and management and reporting.

The scoring criterion, program evaluation, will be based on whether the applicant has created clear, realistic and measurable goals that reflect SSG Fox SPGP's aim of reducing and preventing suicide among Veterans against which the applicant's program performance can be evaluated, as well as whether the applicant has a clear plan to continually assess the program.

In scoring the monitoring criterion, VA will evaluate if the applicant has adequate controls in place to regularly monitor the program, including any community partners, for compliance with all applicable laws, regulations and guidelines; whether the applicant has adequate financial and operational controls in place to ensure the proper use of suicide prevention services grant funds; and whether the applicant has a feasible plan for ensuring that the applicant's staff and any community partners are appropriately trained and stay informed of SSG Fox SPGP policy, evidence-informed suicide prevention practices, and the requirements of 38 CFR part 78.

In scoring the remediation criterion, VA will assess whether the applicant has an appropriate plan to establish a system to remediate non-compliant aspects of the program if and when they are identified.

VA will score the applicant's management and reporting based on whether the applicant's program management team has the capability and a system in place to provide to VA timely and accurate reports at the frequency set by VA.

Section D: Financial Capability & Plan (15 Maximum Points)

VA will score applications on the applicant's financial capability and plan based on organizational finances and the financial feasibility of program.

VA will award points on the applicant's organizational finances based on whether the applicant, and any identified community partners, are financially stable. The financial feasibility of the program will be assessed based on whether the applicant has a realistic plan for obtaining all funding required to operate the program for the time period of the suicide prevention services grant, as well as whether the applicant's program is cost-effective and can be effectively implemented on-budget.

Section E: Area Linkages and Relations (10 Maximum Points)

VA will award points based on the applicant's area linkages and relations, as demonstrated by area linkages, past working relationships, local presence and knowledge and integration of linkages and program concept.

VA will evaluate an applicant's area linkages based on whether the applicant has a feasible plan for developing or relying on existing linkages with the Federal (including VA), state, local and tribal governmental agencies, and private entities for the purposes of providing additional services to eligible individuals within a given geographic area.

VA will assess whether the applicant (or staff) and any identified community partner (or staff) have fostered similar and successful working relationships and linkages with public and private organizations providing services to Veterans or their families in need of services.

VA will evaluate an applicant's local presence and knowledge based on whether the applicant has a presence in the area to be served by the applicant and understands the dynamics of the area to be served by the applicant. This presence and knowledge does not necessarily mean the applicant has an address or physical office in the area, but rather that they are operating in the area such that they have sufficient knowledge of the area and that their staff has a presence in the area. Evaluation of whether an applicant understands the dynamics of the area to be served by the applicant will be based on information including but not limited to the applicant's description of the area, including mental health centers, and relationships with local mental health centers. This may be met through letters of support and documented coordination of care.

Finally, VA will assess the applicant's integration of linkages and program concept based on whether the applicant's linkages to the area to be served by the applicant enhance the effectiveness of the applicant's program.

V. Review and Selection Process

Based on the scoring criteria described above, VA will award grants to those highest-scoring applicants that meet the definition of eligible entity that will provide or coordinate the provision of suicide prevention services to eligible individuals at risk of suicide and their families who may be eligible for services under the SSG Fox SPGP. Applicants should clearly describe the suicide prevention services intended to be offered. Suicide prevention services grant applications will be scored by a VA grant review committee. The grant review committee will be trained on a scoring rubric and follow uniform guidance on application grant review (pursuant to 2 CFR part 200). The SSG Fox SPGP scoring criteria mirrors the well-established criteria of the VA Supportive Services for Veteran Families program (See https://www.va.gov/homeless/ssvf/index.asp for details).

A. Application Selection

VA will only score applicants who meet the following threshold requirements: The application must be filed within the time period established in the NOFO, and any additional information or documentation requested by VA is provided within the time frame established by VA; the application must be completed in all parts; the activities for which the suicide prevention services grant is requested must be eligible for funding; the applicant's proposed participants must be eligible to receive suicide prevention services; the applicant must agree to comply with the requirements of 38 CFR part 78; the applicant must not have an outstanding obligation to the Federal Government that is in arrears and does not have an overdue or unsatisfactory response to an audit; and the applicant must not be in default by failing to meet the requirements for any previous Federal assistance. If these threshold requirements are not met, VA will deem applicants to be ineligible for further consideration.

VA will rank those applicants who score at least 60 cumulative points and receive at least one point under each of the categories: (a) Background, Qualifications, Experience and Past Performance of Applicant and Any Identified Community Partners; (b) Program Concept and Suicide Prevention Services Plan; (c) Quality Assurance and Evaluation Plan; (d) Financial Capability and Plan; and (e) Area Linkages and Relations.

VA will utilize the ranked scores of applicants as the primary basis for selection. The applicants will be ranked in order from highest to lowest. However, VA will give preference to applicants that have demonstrated the ability to provide or coordinate suicide prevention services. VA may prioritize the distribution of suicide prevention services grants to:

(i) Rural communities;

(ii) Tribal lands;

(iii) Territories of the United States;

(iv) Medically underserved areas;

(v) Areas with a high number or percentage of minority Veterans or women Veterans; and

(vi) Areas with a high number or percentage of calls to the Veterans Crisis Line.

To the extent practicable, VA will ensure that suicide prevention services grants are distributed to:

(i) Provide services in areas of the United States that have experienced high rates of suicide by eligible individuals, including suicide attempts;

(ii) Applicants that can assist eligible individuals at risk of suicide who are not currently receiving health care furnished by VA; and

(iii) Ensure that suicide prevention services are provided in as many areas as possible.

VI. Award Administration Information

A. Award Notices

Although subject to change, VA expects to announce grant awards in the fourth quarter of fiscal year 2022. VA reserves the right in any year to make adjustments (e.g., to funding levels) as needed within the intent of the NOFO based on a variety of factors, including the availability of funding. The initial announcement of awards will be made via a news release posted on VA's SSG Fox SPGP website at https://www.mentalhealth.va.gov/ssgfox-grants. The SSG Fox SPGP will concurrently notify both successful and unsuccessful applicants. Only a grant agreement with a VA signature is evidence of an award and is an authorizing document allowing costs to be incurred against a grant award. Other notices, letters, or announcements are not authorizing documents. The grant agreement includes the terms and conditions of the award and must be signed by the entity and VA to be legally binding.

B. Administrative and National Policy Requirements

VA places great emphasis on responsibility and accountability. VA has procedures in place to monitor grants provided under the SSG Fox SPGP. All applicants selected in response to this NOFO must agree to meet applicable inspection standards outlined in the grant agreement.

C. Payments of Grant Funds

Grantees will receive payments electronically through the U.S. Department of Health and Human Services Payment Management System. Grantees will have the ability to request payments as frequently as they choose. Grantees must have internal controls in place to ensure funding is available for the full duration of the grant period of performance, to the extent possible:

D. Reporting and Monitoring

Applicants should be aware of the following:

(i) Upon execution of a suicide prevention services grant agreement with VA, grantees will have a liaison appointed by the SSG Fox SPGP Office who will provide oversight and monitor the use of funds to provide or coordinate suicide prevention services provided to participants.

(ii) VA will require grantees use validated tools and assessments to determine the effectiveness of the suicide prevention services furnished by VA. These include any measures and metrics developed and provided by VA for the purposes of measuring the effectiveness of the programming to be provided in improving mental health status and well-being and reducing suicide risk and suicide deaths of eligible individuals.

(iii) Grantees must provide each participant with a satisfaction survey, which the participant can submit directly to VA, within 30 days of such participant's pending exit from the grantee's program. This is required to assist VA in evaluating grantees' performance and participants' satisfaction with the suicide prevention services they receive.

(iv) Monitoring will also include the submittal of periodic and annual financial and performance reports by the grantee in accordance with 2 CFR part 200. The grantee will be expected to demonstrate adherence to the grantee's proposed program concept, as described in the grantee's application.

(v) VA has the right, at all reasonable times, to make onsite visits to all grantee locations and have virtual meetings where a grantee is using suicide prevention services grant funds to review grantee accomplishments and management control systems and to provide such technical assistance as may be required.

E. Program Evaluation

The purpose of program evaluation is to evaluate the impact participation in the SSG Fox SPGP has on eligible individuals' financial stability, mental health status, well-being, suicide risk and social support, as required by the Act.

As part of the national program evaluation, grantees must input data regularly to the VA's web-based system. VA will ensure grantees have access to the data they need to gather and summarize program impacts and lessons learned on the implementation of the program evaluation criteria; performance indicators used for grantee selection and communication; and the criteria associated with the best outcomes for Veterans.

Training and technical assistance for program evaluation will be provided by VA, which will coordinate with subject matter experts to provide various trainings including the use of measures and metrics required for this program.

Signing Authority

Denis McDonough, Secretary of Veterans Affairs, approved this document on April 11, 2022, and authorized the undersigned to sign and submit the document to the Office of the Federal Register for publication electronically as an official document of the Department of Veterans Affairs.

Jeffrey M. Martin,
Assistant Director, Office of Regulation Policy & Management, Office of General Counsel, Department of Veterans Affairs.

[FR Doc. 2022-08040 Filed 4-14-22; 8:45 am]

BILLING CODE 8320-01-P